DEPARTMENT OF LABOR

Employment and Training Administration

[TA-W-41,195]

Wellman Thermal Systems, Inc., Shelbyville, IN; Notice of Revised Determination on Reconsideration

By letter of August 14, 2002, the company requested administrative reconsideration regarding the Department's Negative Determination Regarding Eligibility to Apply for Worker Adjustment Assistance, applicable to the workers of the subject firm.

The initial investigation resulted in a negative determination issued on July 11, 2002, based on the finding that imports of electrical process heaters and controls did not contribute importantly to worker separations at the Shelbyville, Indiana plant. The denial notice was published in the Federal Register on July 29, 2002 (67 FR 49038).

To support the request for reconsideration, the company attempted to provide information to illustrate that foreign competition impacted the subject workers. On further clarification from the company it was discovered that a competitor purchased certain assets of Wellman's industrial grade electrical process business and inventory. The company indicated that the foreign company was attempting to penetrate the U.S. marketplace. As a result of the asset sale, workers engaged in the production of electrical process heaters and controls at the subject firm were impacted.

The Department contacted the foreign company for further clarification. The company indicated that they did purchase the assets from Wellman and inventory from the subject firm. The foreign company indicated that shortly after the asset purchase they increased their U.S. imports of products “like and directly” competitive with what the subject plant produced during the relevant period. The products were also simultaneously imported to some of the subject firm's domestic customers.

Conclusion

After careful review of the additional facts obtained on reconsideration, I conclude that increased imports of articles like or directly competitive with those produced at Wellman Thermal Systems, Inc., Shelbyville, Indiana contributed importantly to the declines in sales or production and to the total or partial separation of workers at the subject firm. In accordance with the provisions of the Act, I make the following certification:

All workers of Wellman Thermal Systems, Inc., Shelbyville, Indiana, engaged in the production of electrical process heaters and controls, who became totally or partially separated from employment on or after March 13, 2001 through two years from the date of this certification, are eligible to apply for adjustment assistance under Section 223 of the Trade Act of 1974.

Signed in Washington, DC, this 18th day of March 2003.
Edward A. Tomchick,
Director, Division of Trade Adjustment Assistance.

[FR Doc. 03-8847 Filed 4-9-03; 8:45 am]

BILLING CODE 4510-30-P